DEPARTMENT OF TRANSPORTATION

Pipeline and Hazardous Materials Safety Administration

[Docket No. PHMSA-2026-0199 (Notice No. 2026-01)]

Hazardous Materials: Information Collection Activities

AGENCY: Pipeline and Hazardous Materials Safety Administration (PHMSA), Department of Transportation (DOT).

ACTION: Notice and request for comments.

SUMMARY: In accordance with the Paperwork Reduction Act of 1995, PHMSA invites comments on seven Office of Management and Budget (OMB) control numbers pertaining to hazardous materials transportation. PHMSA intends to request renewal and extension for these seven control numbers from OMB.

DATES: Interested persons are invited to submit comments on or before March 31, 2026.

ADDRESSES: You may submit comments identified by the Docket Number PHMSA-2026-0199 (Notice No. 2026-01) by any of the following methods:

• Federal eRulemaking Portal: http://www.regulations.gov. Follow the instructions for submitting comments.

• Fax: 1-202-493-2251.

• Mail: Docket Management System; U.S. Department of Transportation, West Building, Ground Floor, Room W12-140, Routing Symbol M-30, 1200 New Jersey Avenue SE, Washington, DC 20590.

• Hand Delivery: To the Docket Management System; Room W12-140 on the ground floor of the West Building, 1200 New Jersey Avenue SE, Washington, DC 20590, between 9 a.m. and 5 p.m., Monday through Friday, except Federal holidays.

Instructions: All submissions must include the agency name and Docket Number (PHMSA-2026-0199) for this notice at the beginning of the comment. To avoid duplication, please use only one of these four methods. All comments received will be posted without change to the Federal Docket Management System (FDMS) and will include any personal information you provide.

Requests for a copy of an information collection should be directed to Ryan Larson or Steven Andrews, Standards and Rulemaking Division, (202) 366-8553, ohmspra@dot.gov, Pipeline and Hazardous Materials Safety Administration, U.S. Department of Transportation, 1200 New Jersey Avenue SE, Washington, DC 20590-0001.

Docket: For access to the dockets to read background documents or comments received, go to http://www.regulations.gov or DOT's Docket Operations Office (see ADDRESSES).

Privacy Act: In accordance with 5 U.S.C. 553(c), DOT solicits comments from the public to inform its rulemaking process. DOT posts these comments, without edit, including any personal information the commenter provides, to www.regulations.gov, as described in the system of records notice (DOT/ALL-14 FDMS), which can be reviewed at www.dot.gov/privacy.

Confidential Business Information: Confidential Business Information (CBI) is commercial or financial information that is both customarily and actually treated as private by its owner. Under the Freedom of Information Act (5 U.S.C. 552), CBI is exempt from public disclosure. If your comments in response to this notice contain commercial or financial information that is customarily treated as private, that you actually treat as private, and that is relevant or responsive to this notice, it is important that you clearly designate the submitted comments as CBI. Pursuant to 49 CFR 105.30, you may ask PHMSA to provide confidential treatment to the information you give to the agency by taking the following steps: (1) mark each page of the original document submission containing CBI as “Confidential;” (2) send PHMSA a copy of the original document with the CBI deleted along with the original, unaltered document; and (3) explain why the information you are submitting is CBI. Submissions containing CBI should be sent to Ryan Larson or Steven Andrews, Standards and Rulemaking Division, and addressed to the Pipeline and Hazardous Materials Safety Administration, U.S. Department of Transportation, 1200 New Jersey Avenue SE, Washington, DC 20590-0001 or ohmspra@dot.gov. Comments received by PHMSA which are not specifically designated as “CBI” will be placed in the public docket for this notice.

FOR FURTHER INFORMATION CONTACT: Ryan Larson or Steven Andrews, Standards and Rulemaking Division, (202) 366-8553, ohmspra@dot.gov, Pipeline and Hazardous Materials Safety Administration, U.S. Department of Transportation, 1200 New Jersey Avenue SE, Washington, DC 20590-0001.

SUPPLEMENTARY INFORMATION: Section 1320.8(d), title 5, Code of Federal Regulations (CFR) requires the Pipeline and Hazardous Materials Safety Administration (PHMSA) to provide interested members of the public and affected agencies an opportunity to comment on information collection and recordkeeping requests. This notice identifies information collection requests PHMSA will be submitting to OMB for renewal and extension. These information collections are contained in 49 CFR 171.6 of the Hazardous Materials Regulations (HMR; 49 CFR parts 171-180). PHMSA has revised burden estimates, where appropriate, to reflect current reporting levels or adjustments based on changes in proposed or final rules published since the information collections were last approved. The following information is provided for each information collection: (1) title of the information collection, including former title if a change is being made; (2) OMB control number; (3) summary of the information collection activity; (4) description of affected public; (5) estimate of total annual reporting and recordkeeping burden; and (6) frequency of collection. PHMSA will request a 3-year term of approval for each information collection activity and will publish a notice in the Federal Register upon OMB's approval. PHMSA requests comments on the following information collections:

Title: Inspection and Testing of Portable Tanks and Intermediate Bulk Containers.

OMB Control Number: 2137-0018.

Summary: This OMB control number describes the information collections in parts 173, 178, and 180 of the HMR pertaining to the documenting qualifications, inspections, tests, and approvals pertaining to the manufacture and use of portable tanks and intermediate bulk containers (IBCs) under various provisions of the HMR. Information collections under this OMB control number include:

(1) Design Qualification Testing for IBCs: This information collection consists of the minimum requirements for testing procedures to ensure that IBCs containing hazardous materials can withstand normal conditions of transportation. Each packaging must pass the prescribed tests and conform to § 173.24 while in transportation. The testing requirements in § 178.801(d) ensure that the packaging manufacturer achieves successful test results for the design qualification testing at the start of production of each new or different IBC design type.

(2) Periodic Design Requalification Testing of IBCs: This information collection consists of the requirements for periodic design re-qualification of each qualified IBC design type to maintain authorization for continued production. IBC manufacturers must conduct successful tests at sufficient frequency to ensure each packaging produced is capable of passing the design qualification tests, which must be conducted at least once every 12 months.

(3) Applications for Approval of Equivalent Packaging: This information collection consists of the requirements for approval of equivalent packaging applications submitted by the regulated community to PHMSA, which allows the use of an IBC differing from the standards outlined in the HMR if it is shown to be equally effective and if the testing methods used are equivalent.

(4) Reporting Requirements for Retest and Inspection of IBCs: This information collection consists of the requirements for the continuing qualification, maintenance, or periodic retesting of an IBC by any person responsible for it. Each IBC constructed in accordance with a United Nations (UN) standard for which a test or inspection is required may not be filled and offered for transportation or transported until the testing and inspection have been successfully completed. The information collection also reflects the creation of a report that identifies the testing and inspection of IBCs.

(5) Recordkeeping for IBC Testing: This information collection consists of the recordkeeping requirements associated with IBC testing in §§ 178.801 and 180.352. The IBC owner or lessee must keep records of periodic retests, initial and periodic inspections, and test performance on the IBC if it has been repaired. Records must be kept for each packaging at each location where periodic tests are conducted and must be available for inspection by a DOT representative upon request.

(6) Manufacturers Data Report (ASME) for Portable Tanks: This information collection consists of the requirements for tanks designed and constructed in accordance with, and that fulfill all the requirements of, the American Society of Mechanical Engineers (ASME) Code. In addition to the markings required by the ASME Code, every tank must bear permanent marks that include the information specified in § 178.255-14, which must be stamped into the metal near the center of one of the tank heads or stamped into a plate permanently attached to the tank by means of brazing or welding or other suitable means.

(7) Approval Applications for Specification UN Portable Tank Design: This information collection requires an owner or manufacturer of a portable tank to apply for an approval to a designated approval agency authorized to approve new portable tanks designs.

(8) Applications for Modifications to Portable Tank Designs: This information collection requires an owner or manufacturer of a portable tank to apply for an approval to a designated approval agency authorized to approve the modifications to portable tanks designs.

(9) Portable Tanks—Approval Agency Retention of Documents: This information collection consists of the requirement for approval agencies to review all drawings and calculations to ensure that the design is compliant with the relevant specification. The approval agency must maintain the drawings and approval records for as long as the portable tank remains in service and provide this information to the DOT upon request.

(10) Portable Tanks—Manufacturers Retention of Documents: This information collection requires that qualification records for specification portable tanks be retained for at least 5 years by the tank manufacturer and made available to duly identified representatives of the DOT or the owner of the tank.

(11) Recordkeeping for the Testing of Portable Tank: This information collection requires that the owner of the portable tank or his/her authorized agent will retain a written record indicating the date and results of all required tests, as well as the name and address of the tester, until the next retest has been satisfactorily completed and recorded. This information must be provided to the DOT upon request.

The following is a list of the information collections and burden estimates associated with this OMB Control Number:

Information collection | Respondents | Total annual responses | Hours per response | Total annual burden hours
Design Qualification Testing for IBCs—Applications for the Certification Mark | 13 | 494 | 3 | 1,482
Periodic Design Requalification Testing of IBCs—Submission of Changes to Test Frequency to the Associate Administrator | 13 | 494 | 3 | 1,482
Applications for Approval of Equivalent Packaging—IBCs | 5 | 5 | 3 | 15
Reporting Requirements for Retest and Inspection of IBCs | 1,000 | 100,000 | 0.25 | 25,000
Recordkeeping for IBC Testing | 150 | 150 | 0.25 | 38
Manufacturers Data Report (ASME) for Portable Tanks | 50 | 50,000 | 0.25 | 12,500
Approval Applications for Specification UN Portable Tank Design | 13 | 494 | 3 | 1,482
Applications for Modifications to Portable Tank Designs | 13 | 494 | 3 | 1,482
Portable Tanks—Approval Agency Retention of Documents | 13 | 494 | 0.25 | 124
Portable Tanks—Manufacturers Retention of Documents | 50 | 50,000 | 0.25 | 12,500
Recordkeeping for the Testing of Portable Tanks | 150 | 150 | 0.25 | 38

Affected Public: Manufacturers and owners of portable tanks and intermediate bulk containers.

Annual Reporting and Recordkeeping Burden:

Number of Respondents: 1,470.

Total Annual Responses: 202,775.

Total Annual Burden Hours: 56,143.

Frequency of Collection: On occasion.

Title: Hazardous Materials Incident Reports.

OMB Control Number: 2137-0039.

Summary: This information collection is applicable upon occurrence of an incident as prescribed in 49 CFR 171.15 and 171.16. A Hazardous Materials Incident Report, DOT Form F 5800.1, must be completed by a person in physical possession of a hazardous material at the time a hazardous material incident occurs in transportation, such as a release of materials, serious accident, evacuation, or closure of a main artery. Incidents meeting criteria in 49 CFR 171.15 also require a telephonic report. This information collection enhances the Agency's ability to evaluate the effectiveness of its regulatory program, determine the need for regulatory changes, and address emerging hazardous materials transportation safety issues. The requirements apply to all interstate and intrastate carriers engaged in the transportation of hazardous materials by rail, air, water, and highway. The following information collections and their burdens are associated with this OMB Control Number:

Information collection | Respondents | Total annual responses | Hours per response | Total annual burden hours
Telephone Notifications | 180 | 720 | 0.08 | 58
Incident Reports Paper—Written | 172 | 2,888 | 1.6 | 4,621
Incident Reports—Electronic | 166 | 19,720 | 0.8 | 15,776

Affected Public: Shippers and carriers of hazardous materials.

Annual Reporting and Recordkeeping Burden:

Number of Respondents: 518.

Total Annual Responses: 23,328.

Total Annual Burden Hours: 20,455.

Frequency of Collection: On occasion.

Title: Rail Carrier and Tank Car Tanks Requirements, Rail Tank Car Tanks—Transportation of Hazardous Materials by Rail.

OMB Control Number: 2137-0559.

Summary: This information collection consolidates and describes the information provisions in parts 172, 173, 174, 179, and 180 of the HMR pertaining to the transportation of hazardous materials by rail and the manufacture, qualification, maintenance, and use of tank cars. The types of information collected include:

(1) Tank Car Approvals: This information collection consists of special provisions that mandate the approval of the Associate Administrator or the Association of American Railroads (AAR) Committee on Tank Cars before certain hazardous material packaging or packaging components can be used for transportation of hazardous materials by rail.

(2) AAR approval required when a tank car is proposed for commodity service other than specified on a certificate of construction: This information collection consists of requirements for obtaining AAR Tank Car Committee approval for the use of a tank car for commodities other than those specified in part 173 and the certificate of construction. It also includes requirements for AAR approval of tank car design, materials, construction, conversion, alteration, or construction to a new specification. This information is used to ensure that tank cars are suitable for transporting specific commodities and that tank car design, construction, and modification comply with the relevant regulations.

(3) Annual tank car owner progress report to FRA: This information collection consists of the requirement for tank car owners to submit progress reports to the Federal Railroad Administration (FRA) if their tank cars need to be modified to meet the requirements specified in § 173.31. The FRA uses this information to track progress and ensure that all affected tank cars are modified before the regulatory compliance date.

(4) Compressed Gases and Cryogenic Liquids in Tank Cars and Multi Unit Tank Cars Reporting: This information collection requires the shipper to notify the FRA whenever a tank car transporting hydrogen chloride, refrigerated liquids, or vinyl fluoride, stabilized is not received by the consignee within 20 days from the date of shipment.

(5) Reporting to the Bureau of Explosives regarding any restrictions over any portion of its lines: This information collection requires each rail carrier to report to the Bureau of Explosives (BOE), for publication, all information as to any restrictions which it imposes against the acceptance, delivery, or transportation of any hazardous materials, over any portion of its lines.

(6) Nonconforming bulk packages must be repaired or approved from movement by the FRA: This information collection requires that a bulk packaging, such as a tank car tank, that no longer conforms to applicable HMR requirements may not be forwarded by rail unless repaired or approved for movement by the Associate Administrator for Safety, FRA. Notification and approval must be furnished in writing or through telephonic or electronic means, with subsequent written confirmation provided within two weeks.

(7) FRA Approval for transportation of bulk packages containing a hazardous material in COFC or TOFC service: This information collection requires that the Associate Administrator for Safety, FRA approve the transportation of bulk packages, such as portable tanks and cargo tanks, containing a hazardous material in container-on-flatcar (COFC) or trailer-on-flatcar (TOFC) service if not otherwise authorized for transportation.

(8) Division 1.1 or 1.2 explosive material inspection and Car Certificate requirements: This information collection requires that before a Division 1.1 or 1.2 explosive materials may be loaded into a rail car, the car must have been inspected and certified to be in compliance with the requirements of § 174.104(b) by a qualified person designated under 49 CFR 215.11.

(9) Initial marking, requalification marking, and requalification reporting requirements: This information collection consist of the requirements for the detail marking of a newly manufactured tank car, requalification tank car marking requirements, and reporting of details for a requalified tank car.

(10) Quality Assurance Program: This information collection requires facilities that build, repair, and ensure the structural integrity of tank cars are required to develop and implement a quality assurance program. This information is used by the facility and DOT compliance personnel to ensure that each tank car is constructed or repaired in accordance with the applicable requirements.

The following is a list of the information collections and burden estimates associated with this OMB Control Number:

Information collection | Respondents | Total annual responses | Hours per response | Total annual burden hours
Tank Car Approvals | 2 | 2 | 6.5 | 13
AAR approval required when a tank car is proposed for commodity service other than specified on a certificate of construction | 25 | 1,200 | 0.167 | 200
Annual tank car owner progress report to FRA | 100 | 100 | 1 | 100
Compressed Gases and Cryogenic Liquids in Tank Cars and Multi Unit Tank Cars Reporting | 6 | 141 | 0.25 | 35
Reporting to the Bureau of Explosives regarding any restrictions over any portion of its lines | 34 | 51 | 0.333 | 17
Nonconforming bulk packages must be repaired or approved from movement by the FRA | 388 | 4,308 | 0.4 | 1,695
FRA Approval for transportation of bulk packages containing a hazardous material in COFC or TOFC service | 6 | 6 | 0.5 | 3
Division 1.1 or 1.2 explosive material inspection and Car Certificate requirements | 25 | 600 | 0.333 | 200
Record when a car seal is changed when the car is placarded with Division 1.1 or 1.2 explosive materials | 34 | 170 | 0.166 | 28
Initial marking, requalification marking, and requalification reporting requirements | 100 | 15,000 | 0.116 | 1,768
Quality assurance program | 75 | 75 | 5.5 | 413

Affected Public: Manufacturers, owners, and rail carriers of tank.

Annual Reporting and Recordkeeping Burden:

Total Number of Respondents: 795.

Total Annual Responses: 21,653.

Total Annual Burden Hours: 4,472.

Frequency of Collection: Annually.

Title: Testing Requirements for Non-Bulk Packaging.

OMB Control Number: 2137-0572.

Summary: These OMB control number describes the information collections in parts 173 and 180 of the HMR pertaining to the testing requirements for non-bulk packagings. This OMB control number covers performance-oriented packaging standards and allows packaging manufacturers and shippers more flexibility in selecting more economical packagings for their products. These information collections also allow customizing the design of packagings to better suit the transportation environment that they will encounter and encourages technological innovations, decreases packaging costs, and significantly reduces the need for special permits. These information collections specifically include:

(1) Testing Requirements for Non-Bulk Packaging (Reporting): This information collection consists of various testing requirements that must be met by non-bulk packaging, depending on the type of material it will contain. These include thermal resistance tests for packaging transporting oxygen cylinders, leakproofness tests for liquid hazardous materials, hydrostatic pressure tests for metal, plastic, and composite containers, cooperage tests for bung-type wooden barrels, and additional testing for packaging intended to contain infectious substances. The specific tests required may vary based on the outer and inner packaging material used.

(2) Additional Test Reports (Reporting): This information collection consists of the requirement to prepare and maintain a test report after each design qualification test or periodic retest of a packaging. The test report must be available to the user of the packaging or a representative of the DOT upon request and includes details such as the date, name, and address of the testing facility, packaging design type, maximum capacity, characteristics of test contents, and test descriptions and results.

(3) Test Reports (Recordkeeping): This information collection requires that test report must be made available to a user of a packaging or a representative of the DOT, upon request. The test report includes information such as: the date, name, and address of the testing facility; a description of the packaging design type; the maximum capacity; characteristics of test contents; and test descriptions and results.

(4) Closure Instructions (Reporting): This information collection consists of the requirement for the manufacturer or certifier of non-bulk packaging to create closure instructions, in accordance with § 178.2(c). These instructions indicate the means of closure with which the package was tested and ensure that any subsequent shipper maintains the same level of safety when the package is closed for transportation of hazardous materials.

(5) Closure Instructions (Recordkeeping): This information collection requires that the manufacturer or other person certifying compliance, along each subsequent distributor of the packaging, provide closure instructions to each person to whom the packaging is transferred, as well as any representative of the DOT, for inspection.

The following is a list of the information collections and burden estimates associated with this OMB Control Number:

Information collection | Respondents | Total annual responses | Hours per response | Total annual burden hours
Testing Requirements for Non-Bulk Packaging—Reporting | 5,000 | 15,000 | 2.016 | 30,250
Additional Test Reports—Reporting | 10 | 30 | 2 | 60
Test Reports—Recordkeeping | 100 | 1,000 | 0.1 | 100
Closure Instructions—Reporting | 500 | 500 | 2 | 1,000
Closure Instructions—Recordkeeping | 16,080 | 16,080 | 0.083 | 1,340

Affected Public: Each non-bulk packaging manufacturer that tests packagings to ensure compliance with the HMR.

Annual Reporting and Recordkeeping Burden:

Total Number of Respondents: 21,690.

Total Annual Responses: 32,610.

Total Annual Burden Hours: 32,750.

Frequency of Collection: On occasion.

Title: Hazardous Materials Public Sector Training and Planning Grants.

OMB Control Number: 2137-0586.

Summary: This OMB control number describes the information collections in parts 110 of the HMR pertaining to the procedures for reimbursable grants for public sector planning and training in support of the emergency planning and training efforts of States, Indian tribes, and local communities to manage hazardous materials emergencies, particularly those involving transportation. Sections in this part address information collection and recordkeeping with regard to applying for grants, monitoring expenditures, and reporting and requesting modifications.

The following is a list of the information collections and burden estimates associated with this OMB Control Number:

Information collection | Respondents | Total annual responses | Hours per response | Total annual burden hours
Hazardous Materials Grants Applications | 68 | 68 | 83.23 | 5,661

Affected Public: State and local governments, Indian tribes.

Annual Reporting and Recordkeeping Burden:

Total Annual Respondents: 68.

Annual Responses: 68.

Annual Burden Hours: 5,661.

Frequency of collection: On occasion.

Title: Cargo Tank Motor Vehicles in Liquefied Compressed Gas Service.

OMB Control Number: 2137-0595.

Summary: This information collection and recordkeeping burden pertains to the requirements applicable to the manufacture, certification, inspection, repair, maintenance, and operation of certain DOT specification and non-specification cargo tank motor vehicles used to transport liquefied compressed gases. These requirements are intended to ensure cargo tank motor vehicles used to transport liquefied compressed gases are operated safely, and to minimize the potential for catastrophic releases during unloading and loading operations. They include: (1) requirements for operators of cargo tank motor vehicles in liquefied compressed gas service to develop operating procedures applicable to unloading operations and carry the operating procedures on each vehicle; (2) inspection, maintenance, marking, and testing requirements for the cargo tank discharge system, including delivery hose assemblies; and (3) requirements for emergency discharge control equipment on certain cargo tank motor vehicles transporting liquefied compressed gases that must be installed and certified by a Registered Inspector.

The following information collections and their burdens are associated with this OMB Control Number:

Information collection | Respondents | Total annual responses | Hours per response | Total annual burden hours
Marking New/Repaired Hoses with Unique Identifier | 6,800 | 12,172 | 0.083 | 1,010
Monthly Hose Inspections Record | 6,800 | 439,960 | 0.1 | 43,996
Record of Monthly Piping Tests Record | 6,800 | 400,112 | 0.2 | 80,022
Hose Pressure Test Marking Record | 6,800 | 12,172 | 0.083 | 1,010
Annual Hose Test Record | 6,800 | 36,652 | 0.42 | 15,394
Cargo Tanks in Other Than Metered Delivery Service—Design Certification for Automatic Shutoff | 150 | 900 | 8 | 7,200
Cargo Tanks in Other Than Metered Delivery Service—Instillation of Shutoff System by a Registered Inspector | 150 | 900 | 8 | 7,200
Cargo Tank Motor Vehicles in Metered Delivery Service—Certification of Remote-Control Equipment by a Registered Inspector | 150 | 3,300 | 8 | 26,400

Affected Public: Carriers in liquefied compressed gas service, manufacturers and repairers.

Annual Reporting and Recordkeeping Burden:

Number of Respondents: 34,450.

Total Annual Responses: 906,168.

Total Annual Burden Hours: 182,232.

Frequency of Collection: On occasion.

Title: Inspection and Testing of Meter Provers.

OMB Control Number: 2137-0620.

Summary: This information collection and recordkeeping burden results from the requirements pertaining to the use, inspection, and maintenance of mechanical displacement meter provers (meter provers) used to check the accurate flow of liquid hazardous materials into bulk packagings, such as portable tanks and cargo tank motor vehicles, under the HMR. These meter provers are used to ensure that the proper amount of liquid hazardous materials is being loaded and unloaded. These meter provers consist of a gauge and several pipes that always contain small amounts of the liquid hazardous material in the pipes as residual material and, therefore, must be inspected and maintained in accordance with the HMR to ensure they are in proper calibration and working order. These meter provers are not subject to the specification testing and inspection requirements in 49 CFR part 178. However, these meter provers must be visually annually inspected and hydrostatic pressure tested every five years in order to ensure they are properly working as specified in 49 CFR 173.5a of the HMR. Therefore, this information collection requires that:

(1) Each meter prover must undergo and pass an annual external visual inspection to ensure that the meter provers used in the flow of liquid hazardous materials into bulk packagings are accurate and in conformance with the performance standards in the HMR.

(2) Each meter prover must undergo and pass a hydrostatic pressure test at least every 5 years to ensure that the meter provers used in the flow of liquid hazardous materials into bulk packagings are accurate and in conformance with the performance standards in the HMR.

(3) Each meter prover must successfully complete the test and inspection and must be marked in accordance with 49 CFR 180.415(b) and 173.5a.

(4) Each owner must retain a record of the most recent visual inspection and pressure test until the meter prover is requalified.

The following information collections and their burdens are associated with this OMB Control Number:

Information collection | Respondents | Total annual responses | Hours per response | Total annual burden hours
Annual Visual Inspection | 250 | 250 | 0.5 | 125
Hydrostatic Pressure Test (Every 5 Years) | 250 | 250 | 0.2 | 50

Affected Public: Owners of meter provers used to measure liquid hazardous materials flow into bulk packagings such as cargo tanks and portable tanks.

Annual Reporting and Recordkeeping Burden:

Number of Respondents: 500.

Total Annual Responses: 500.

Total Annual Burden Hours: 175.

Frequency of Collection: On occasion.

Issued in Washington, DC, on January 27, 2026 under authority delegated in 49 CFR 1.97.
Matthew Nickels,
Acting Director, Standards and Rulemaking Division, Office of Hazardous Materials Safety, Pipeline and Hazardous Materials Safety Administration.

[FR Doc. 2026-01856 Filed 1-29-26; 8:45 am]

BILLING CODE 4910-60-P